DEPARTMENT OF AGRICULTURE

Submission for OMB Review; Comment Request

August 24, 2004.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Animal and Plant Health Inspection Service

Title: Request for Credit Account Approval for Reimbursable Services.

OMB Control Number: 0579-0055.

Summary of Collection: The Debt Collection Improvement Act of 1996 (P.L. 104-134 Section 31001(x) of 31 U.S.C. 7701, requires that agencies collect tax identification numbers from all persons doing business with the Government for purposes of collecting delinquent debts. The services of an inspector to clear imported and exported commodities are covered by user fees during regular working hours. If an importer/exporter wishes to have a shipment of cargo or animals cleared at other hours, such services will usually be provided on a reimbursable overtime basis, unless already covered by a user fee. The Animal and Plant Health Inspection Service (APHIS) will collect information using APHIS form 192, Application for Credit Account and Request for Service.

Need and Use of the Information: APHIS will collect information to conduct a credit check on prospective applicants to ensure creditworthiness prior to extending credit services. Without this information, customers (including small business) will have to pay each time a service is provided.

Description of Respondents: Business or other for-profit; Individuals or households; Not-for-profit institutions; Federal Government.

Number of Respondents: 256.

Frequency of Responses: Reporting: On occasion.

Total Burden Hours: 64.

Animal Plant & Health Inspection Service

Title: Pseudorabies in Swine; Payment to Indemnity.

OMB Control Number: 0579-0137.

Summary of Collection: The United States Department of Agriculture is responsible for preventing the interstate spread of pests and diseases of livestock within the United States and for conducting eradication programs. The Animal and Plant Health Inspection Service (APHIS) established an accelerated pseudorabies program, including the payment of indemnity, to further pseudorabies eradication efforts in cooperation with States and industry and to protect swine not infected with pseudorabies from the disease. Pseudorabies is a contagious, infectious, and communicable disease of livestock, primarily swine. Regulations in 9 CFR part 85 govern the interstate movement of swine and other livestock (cattle, sheep, and goats) in order to help prevent the spread of pseudorabies. APHIS will collect information using several APHIS forms.

Need and Use of the Information: APHIS will collect information on the number of animals being relinquished, their estimated weight, the market price of the animals for the particular week, and the total compensation amount that the owner can expect to receive. If the information were not collected, APHIS would not be able to launch the accelerated pseudorabies eradication program.

Description of Respondents: Business or other for-profit; Farms; State, Local or Tribal Government.

Number of Respondents: 5,700.

Frequency of Responses: Reporting: On occasion.

Total Burden Hours: 3,156.

Sondra Blakey,
Departmental Information Collection Clearance Officer.

[FR Doc. 04-19645 Filed 8-27-04; 8:45 am]

BILLING CODE 3410-34-P